DEPARTMENT OF EDUCATION

Applications for New Awards; Special Programs for Indian Children—Demonstration Grants

AGENCY: Office of Elementary and Secondary Education, Department of Education.

ACTION: Notice.

SUMMARY: The Department of Education is issuing a notice inviting applications for new awards for fiscal year (FY) 2018 for the Indian Education Discretionary Grants Programs—Demonstration Grants for Indian Children program, Catalog of Federal Domestic Assistance (CFDA) number 84.299A.

DATES: Applications Available: June 26, 2018.

Deadline for Notice of Intent to Apply: July 11, 2018.

Deadline for Transmittal of Applications: August 10, 2018.

Deadline for Intergovernmental Review: September 10, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Tara Ramsey, U.S. Department of Education, 400 Maryland Avenue SW, Room 3W203, Washington, DC 20202. Telephone: (202) 260-3774. Email: NYCP.OIE@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Demonstration Grants for Indian Children program is to provide financial assistance to projects that develop, test, and demonstrate the effectiveness of services and programs to improve the educational opportunities and achievement of Indian students in preschool, elementary, and secondary schools.

Background: For FY 2018, the Department will continue to use the priority for Native Youth Community Projects (NYCP) first used in FY 2015 to support community-led, comprehensive projects to help American Indian/Alaska Native (AI/AN) children become college- and career-ready. NYCP funding is one of many efforts across the Federal government to coordinate, measure progress, and make investments in Native youth programs. These efforts aim to address educational and other outcomes for Native youth not currently being met. These grants are designed to help communities improve educational outcomes, specifically college- and career-readiness, through strategies tailored to address the specific challenges and build upon the specific opportunities and culture within a community. Such strategies can include supplemental academic programs or courses, social-emotional services, cultural education, and other support services for AI/AN students and families.

Recognizing the importance of Tribes to the education of Native youth, NYCP projects are based on a partnership that includes at least one Tribe and one school district or Department of the Interior Bureau of Indian Education (BIE)-funded school. We expect that this partnership will facilitate capacity building within the community, generating positive results and practices for student college-and-career readiness beyond the period of Federal financial assistance. The requirement of a written partnership agreement helps to ensure that all relevant partners needed to achieve the project goals are included from the outset. Grantees' project evaluations should help inform future practices that effectively improve outcomes for AI/AN youth.

Because educational choice is a promising option to expand access to high-quality education and improve college- and career-readiness for Native youth, this competition also includes the Secretary's Final Supplemental Priority 1 to empower families and individuals to choose a high-quality education. For this competition, the Department is particularly interested in community-led approaches to educational choice, such as the expansion of existing charter schools, the use of supplemental Education Scholarship Accounts, and course choice.

Priorities: This competition contains one absolute priority and four competitive preference priorities. In accordance with 34 CFR 75.105(b)(2)(ii), the absolute priority is from 34 CFR 263.21(c)(1) and 263.20. In accordance with 34 CFR 75.105(b)(2)(ii), competitive preference priority one is from 34 CFR 263.21(c)(5), competitive preference priority two is from 34 CFR 263.21(b), and paragraph (b) of competitive preference priority three is from 34 CFR 263.21(c)(2). Paragraph (a) of competitive preference priority three (relating to Promise Zones) is from the notice of final priority published in the Federal Register on March 27, 2014 (79 FR 17035). Competitive preference priority four is from the Secretary's Final Supplemental Priorities and Definitions for Discretionary Grant Programs (Supplemental Priorities), published in the Federal Register on March 2, 2018 (83 FR 9096).

Absolute Priority: For FY 2018 and any subsequent year in which we make awards from the list of unfunded applications from this competition, this priority is an absolute priority. Under 34 CFR 75.105(c)(3) we consider only applications that meet this priority.

This priority is:

Native Youth Community Projects.

A native youth community project is—

(1) Focused on a defined local geographic area;

(2) Centered on the goal of ensuring that Indian students are prepared for college and careers;

(3) Informed by evidence, which could be either a needs assessment conducted within the last three years or other data analysis, on—

(i) The greatest barriers, both in and out of school, to the readiness of local Indian students for college and careers;

(ii) Opportunities in the local community to support Indian students; and

(iii) Existing local policies, programs, practices, service providers, and funding sources;

(4) Focused on one or more barriers or opportunities with a community-based strategy or strategies and measurable objectives;

(5) Designed and implemented through a partnership of various entities, which—

(i) Must include—

(A) One or more Tribes or their Tribal education agencies; and

(B) One or more BIE-funded schools, one or more local educational agencies (LEAs), or both; and

(ii) May include other optional entities, including community-based organizations, national nonprofit organizations, and Alaska regional corporations; and

(6) Led by an entity that—

(i) Is eligible for a grant under the Demonstration Grants for Indian Children program; and

(ii) Demonstrates, or partners with an entity that demonstrates, the capacity to improve outcomes that are relevant to the project focus through experience with programs funded through other sources.

Competitive Preference Priorities: For FY 2018 and any subsequent year in which we make awards from the list of unfunded applications from this competition, these priorities are competitive preference priorities. Under 34 CFR 75.105(c)(2)(i) we award up to an additional 13 points to an application, depending on how well the application meets one or more of these priorities; the total possible points for each priority are noted in parentheses.

These priorities are:

Competitive Preference Priority One (zero or two points).

Projects that include an LEA that is eligible under the Small Rural School Achievement (SRSA) or Rural and Low-Income School (RLIS) program, or a BIE-funded school that is located in an area designated by the U.S. Census Bureau with a locale code of 42 or 43.

Competitive Preference Priority Two (zero or three points).

Although all NYCP grantees are required to have an eligible Indian Tribe or its Tribal education agency (TEA) as a partner, we award three points to an application in which the lead partner is an eligible Indian Tribe or its TEA, an Indian organization (as defined in this notice), or a Tribal college or university (as defined in section 316(b) of the Higher Education Act of 1965, as amended (HEA)).

Competitive Preference Priority Three (zero or three points).

Applications that meet one of the following criteria—

(a) Designed to serve a local community within a federally designated Promise Zone; or

(b) Submitted by a partnership or consortium in which the lead applicant or one of its partners has received a grant in the last four years under one or more of the following grant programs:

(1) State Tribal Education Partnership (section 6132 of the Elementary and Secondary Education Act of 1965, as amended (ESEA)).

(2) Alaska Native Education Program (ESEA sections 6301-6306).

(3) Promise Neighborhoods (ESEA sections 4623-4624).

Note: As a participant in the Promise Zone Initiative, the Department is cooperating with the Department of Housing and Urban Development (HUD), the Department of Agriculture (USDA), and nine other Federal agencies to support comprehensive revitalization efforts in 22 high-poverty urban, rural, and Tribal communities across the country. Each application for NYCP funds that is accompanied by a Certification of Consistency with Promise Zone Goals and Implementation (HUD Form 50153) signed by an authorized representative of the lead organization of a Promise Zone designated by HUD or USDA will receive two points, under competitive preference priority 3(a). An application for NYCP grant funds that is not accompanied by a signed certification (HUD Form 50153) will not receive points under competitive preference priority 3(a), but may still be eligible to receive points under competitive preference priority 3(b) if it received one of the grants listed. To view the list of designated Promise Zones and lead organizations please go to https://www.hudexchange.info/programs/promise-zones/promise-zones-overview/. The certification form is available at: www.hudexchange.info/resource/4396/promise-zones-certification-form-and-guidance/.

Note: An application will not receive points for both (a) and (b) under competitive preference priority 3.

Competitive Preference Priority Four—Empowering Families and Individuals to Choose a High-Quality Education that Meets their Unique Needs (zero to 5 points).

Projects that are designed to address increasing access to educational choice (as defined in this notice) for students who are Indians, as defined in section 6151 of the ESEA.

Definitions: The following definitions apply to this competition. The definition of “educational choice” is from the Supplemental Priorities, the definition of “evidence-based” is from section 8101(21) of the ESEA, and the definition of “Indian organization” is from 34 CFR 263.20.

Educational choice means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a child's or student's geographically assigned school or the institution in which he or she is currently enrolled and may include:

(1) Public educational programs or courses including those offered by traditional public schools, public charter schools, public magnet schools, public online education providers, or other public education providers; or

(2) Private or home-based educational programs or courses including those offered by private schools, private online providers, private tutoring providers, community or faith-based organizations, or other private education providers.

Evidence-based, when used with respect to a State, LEA, or school activity, means an activity, strategy, or intervention that—

(1) Demonstrates a statistically significant effect on improving student outcomes or other relevant outcomes based on—

(a) Strong evidence from at least 1 well-designed and well-implemented experimental study;

(b) Moderate evidence from at least 1 well-designed and well-implemented quasi-experimental study; or

(c) Promising evidence from at least 1 well-designed and well-implemented correlational study with statistical controls for selection bias; or

(2)(a) Demonstrates a rationale based on high-quality research findings or positive evaluation that such activity, strategy, or intervention is likely to improve student outcomes or other relevant outcomes; and

(b) Includes ongoing efforts to examine the effects of such activity, strategy, or intervention.

Indian organization means an organization that—

(1) Is legally established—

(a) By Tribal or inter-Tribal charter or in accordance with State or Tribal law; and

(b) With appropriate constitution, by-laws, or articles of incorporation;

(2) Includes in its purposes the promotion of the education of Indians;

(3) Is controlled by a governing board, the majority of which is Indian;

(4) If located on an Indian reservation, operates with the sanction or by charter of the governing body of that reservation;

(5) Is neither an organization or subdivision of, nor under the direct control of, any institution of higher education; and

(6) Is not an agency of State or local government.

Application Requirements: The following requirements apply to all applications submitted under this competition and are from section 6121 of the ESEA and 34 CFR 263.20, 263.21, and 263.22. An applicant must include in its application:

(a) A description of the defined geographic area to be served by the project.

(b) Evidence, based on either a needs assessment conducted within the last three years or other data analysis, of—

(1) The greatest barriers, both in and out of school, to the readiness of local Indian students for college and careers;

(2) Opportunities in the local community to support Indian students; and

(3) Existing local policies, programs, practices, service providers, and funding sources.

(c) A project design and management plan that—

(1) Addresses one or more barriers or opportunities towards the goal of ensuring that Indian students are prepared for college and careers, as identified in the local needs assessment or other data analysis; and

(2) Uses a community-based strategy (or strategies), and measureable objectives for that strategy (or strategies) that can be used to measure progress toward the goal.

(d) A copy of an agreement signed by the required partners in the proposed project, identifying the responsibilities of each partner in the proposed project. Signatories to the agreement must include at least one Tribe or its TEA and at least one LEA or BIE-funded school, as described in the absolute priority above. Letters of support do not meet the requirement for a signed partnership agreement.

(e) Evidence that the applicant or one of its partners has demonstrated the capacity to improve outcomes that are relevant to the project focus through experience with programs funded through other sources.

(f) A description of how Indian Tribes and parents and family of Indian children have been, and will be, involved in developing and implementing the proposed activities.

(g) Information demonstrating that the proposed project is an evidence-based program, where applicable, which may include an existing evidence-based program that has been modified to be culturally appropriate for Indian students. Applicants that believe the evidence-based requirement is not applicable to their project must give an explanation in the application of why it is not applicable.

(h) A description of how the applicant will continue the proposed activities once the grant period is over.

(i) For projects that plan to use the grant funding for early childhood or kindergarten programs, evidence that the program is effective in preparing young children to make sufficient academic growth by the end of grade 3.

Note: Applications that do not include the required documents to demonstrate eligibility or other program requirements will likely be rejected or deemed ineligible for review.

Statutory Hiring Preference:

(a) Awards that are primarily for the benefit of Indians are subject to the provisions of section 7(b) of the Indian Self-Determination and Education Assistance Act (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant.

(b) For purposes of this section, an Indian is a member of any federally recognized Indian Tribe.

Program Authority: 20 U.S.C. 7441.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The regulations for this program in 34 CFR part 263. (e) The notice of final priority published in the Federal Register on March 27, 2014 (79 FR 17035). (f) The Supplemental Priorities.

Note: The regulations in 34 CFR part 79 apply to all applicants except federally recognized Indian Tribes.

Note: The regulations in 34 CFR part 86 apply to institutions of higher education only.

II. Award Information

Type of Award: Discretionary grants.

Estimated Available Funds: $25,600,000.

Contingent upon the availability of funds and the quality of applications, we may make additional awards in subsequent years from the list of unfunded applications from this competition.

Estimated Range of Awards: $500,000-1,000,000.

Estimated Average Size of Awards: $750,000 per year.

Estimated Number of Awards: 26-40.

Note: The Department is not bound by any estimates in this notice.

Project Period: Up to 48 months. Grants are for an initial period of three years, with the possibility of renewal for an additional year if the Secretary determines that the grantee has made substantial progress.

III. Eligibility Information

1. Eligible Applicants: Eligible applicants for this program are State educational agencies; LEAs, including charter schools that are considered LEAs under State law; Indian Tribes; Indian organizations; BIE-funded schools; Tribal colleges and universities (as defined in section 316(b) of the HEA, 20 U.S.C. 1059c(b)); or a consortium of any of these entities.

The absolute priority for NYCP requires that an applicant be a member of a partnership that includes at least one Tribe or its TEA and at least one LEA or BIE-funded school. We will reject applications that do not include at least these two types of partners.

Note: Including as a partner an Indian organization or Tribal college or university does not satisfy the requirement, under the absolute priority, of including the Tribe itself as one of the partners. A Tribe may designate another entity to apply on its behalf only if the entity submits as part of its application a Tribal resolution authorizing the designation for the purpose of applying for and administering this Demonstration grant.

Applicants applying as an Indian organization must demonstrate that the entity meets the definition of “Indian organization.”

2. Cost Sharing or Matching: This competition does not require cost sharing or matching.

3. Subgrantees: A grantee under this competition may not award subgrants to entities to directly carry out project activities described in its application.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Submission of Proprietary Information: Given the types of projects that may be proposed in applications for the Demonstration Grants for Indian Children program, an application may include business information that the applicant considers proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachment Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition. Please note that, under 34 CFR 79.8(a), we have shortened the standard 60-day intergovernmental review period in order to make awards by the end of FY 2018.

4. Funding Restrictions: We reference regulations outlining funding restrictions in the Applicable Regulations section of this notice.

5. Recommended Page Limit: The application narrative is where you, the applicant, address the selection criteria that reviewers use to evaluate your application. We recommend that you (1) limit the application narrative to no more than 30 pages and (2) use the following standards:

• A page is 8.5″ x 11″, on one side only, with 1″ margins at the top, bottom, and both sides.

• Double space all text in the application narrative, including titles, headings, footnotes, quotations, references, and captions, as well as all text in charts, tables, figures, and graphs.

• Use a font that is 12 point or larger but no smaller than 10 pitch (characters per inch).

• Use one of the following fonts: Times New Roman, Courier, Courier New, or Arial.

The recommended page limit does not apply to the cover sheet; the budget section, including the budget narrative justification; the consortium agreement or partnership agreement; the assurances and certifications; or the abstract, the resumes, the bibliography, or other required attachments.

6. Notice of Intent to Apply: The Department will be able to review grant applications more efficiently if we know the approximate number of applicants that intend to apply. Therefore, we strongly encourage each potential applicant to notify us of their intent to submit an application for funding. To do so, please email NYCP.OIE@ed.gov with the subject line “Intent to Apply,” and include the following information:

(a) Applicant's name, mailing address, and phone number;

(b) Contact person's name and email address;

(c) The defined local geographic area to be served by the project;

(d) Name(s) of partnering LEA(s) or BIE-funded school(s);

(e) Name(s) of partnering Tribe(s) or TEA(s); and

(f) If appropriate, names of other partnering organizations.

Applicants that do not submit a notice of intent to apply may still apply for funding; applicants that do submit a notice of intent to apply are not bound to apply or bound by the information provided.

V. Application Review Information

1. Selection Criteria: The selection criteria for this competition are from 34 CFR 75.210 and 34 CFR part 263. We will award up to 100 points to an application under the selection criteria; the total possible points for each selection criterion are noted in parentheses.

a. Need for project (Maximum 15 points). The Secretary considers the need for the proposed project. In determining the need for the proposed project, the Secretary considers the extent to which the project is informed by evidence, which could be either a needs assessment conducted within the last three years or other data analysis documenting the following:

(i) The greatest barriers both in and out of school to the readiness of local Indian students for college and careers;

(ii) Opportunities in the local community to support Indian students; and

(iii) Existing local policies, programs, practices, service providers, and funding sources.

b. Quality of the project design (Maximum 30 points). The Secretary considers the quality of the design of the proposed project. In determining the quality of the design of the proposed project, the Secretary considers the following factors:

(i) (Up to 4 points) The extent to which the project is focused on a defined local geographic area.

(ii) (Up to 6 points) The extent to which the proposed project is evidence-based, where applicable, which may include an existing evidence-based program that has been modified to be culturally appropriate for Indian students.

(iii) (Up to 7 points) The extent to which the goals, objectives, and outcomes to be achieved by the proposed project are clearly specified and measurable.

(iv) (Up to 8 points) The extent to which the design of the proposed project is appropriate to, and will successfully address, the needs of the target population or other identified needs.

(v) (Up to 5 points) The extent to which the services to be provided by the proposed project involve the collaboration of appropriate partners for maximizing the effectiveness of project services.

c. Quality of project personnel (Maximum 10 points). The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(i) (Up to 6 points) The extent to which the applicant, or one of its partners, demonstrates capacity to improve outcomes that are relevant to the project focus through experience with programs funded through other sources.

(ii) (Up to 2 points) The qualifications, including relevant training and experience, of key project personnel.

(iii) (Up to 2 points) The qualifications, including relevant training and experience, of the project director or principal investigator.

Note: Please note that section 7(b) of the Indian Self-Determination and Education Assistance Act requires that to the greatest extent feasible, a grantee must give to Indians preference and opportunities in connection with the administration of the grant, and give Indian organizations and Indian-owned economic enterprises, as defined in section 3 of the Indian Financing Act of 1974 (25 U.S.C. 1452(e)), preference in the award of contracts in connection with the administration of the grant.

d. Adequacy of resources (Maximum 10 points). The Secretary considers the adequacy of resources for the proposed project. In determining the adequacy of resources for the proposed project, the Secretary considers the following factors:

(i) (Up to 5 points) The relevance and demonstrated commitment of each partner in the proposed project to the implementation and success of the project.

(ii) (Up to 5 points) The extent to which the costs are reasonable in relation to the number of persons to be served and to the anticipated results and benefits.

e. Quality of the management plan (Maximum 25 points). The Secretary considers the quality of the management plan for the proposed project. In determining the quality of the management plan for the proposed project, the Secretary considers the following factors:

(i) (Up to 15 points) The adequacy of the management plan to achieve the objectives of the proposed project on time and within budget, including clearly defined responsibilities, timelines, and milestones for accomplishing project tasks.

(ii) (Up to 5 points) The extent to which Indian Tribes and parents and families of Indian children have been, and will be, involved in developing and implementing the proposed activities.

(iii) (Up to 5 points) The extent to which the proposed project is designed to build capacity and yield results that will extend beyond the period of Federal financial assistance.

f. Quality of the project evaluation (Maximum 10 points). The Secretary considers the quality of the evaluation to be conducted of the proposed project. In determining the quality of the evaluation, the Secretary considers the following factors:

(i) (Up to 7 points) The extent to which the methods of evaluation will provide performance feedback and permit periodic assessment of progress toward achieving intended outcomes.

(ii) (Up to 3 points) The extent to which the evaluation will provide guidance about effective strategies suitable for replication or testing in other settings.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance and Results Act of 1993, the Department has developed the following performance measures for measuring the overall effectiveness of the Demonstration Grants for Indian Children program:

(1) The percentage of the annual measurable objectives, as described in the application, that are met by grantees; and

(2) The percentage of grantees that report a significant increase in community collaborative efforts that promote college and career readiness of Indian children.

These measures constitute the Department's indicators of success for this program. Consequently, we advise an applicant for a grant under this program to give careful consideration to these measures in developing the proposed project and identifying the method of evaluation. Each grantee will be required to provide, in its annual performance and final reports, data about its progress in meeting these measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: June 21, 2018.
Jason Botel,
Principal Deputy Assistant Secretary Delegated the Authority to Perform the Functions and Duties of Assistant Secretary for Elementary and Secondary Education.

[FR Doc. 2018-13728 Filed 6-25-18; 8:45 am]

BILLING CODE 4000-01-P